FEDERAL COMMUNICATIONS COMMISSION

47 CFR Parts 1, 43 and 63

[IB Docket No. 04-112; FCC 13-6]

Reporting Requirements for U.S. Providers of International Telecommunications Services

AGENCY: Federal Communications Commission.

ACTION: Final rule; announcement of effective date.

SUMMARY: In this document, the Federal Communications Commission (Commission) announces that the Office of Management and Budget (OMB) has approved, for a period of three years, the information collection associated with the Commission's Second Report and Order, IB Docket No. 04-112, FCC 13-6. This document is consistent with the Second Report and Order, which stated that the Commission would publish a document in the Federal Register announcing OMB approval and the effective date of the requirements.

DATES: 47 CFR 1.767(l)(2), 43.61, 43.62, 43.82, 63.10(c)(2) and (4), 63.21(d) and 63.22(e), published at 78 FR 15615, March 12, 2013 are effective on February 11, 2015.

FOR FURTHER INFORMATION CONTACT: For additional information contact Cathy Williams, Cathy.Williams@fcc.gov, (202) 418-2918.

SUPPLEMENTARY INFORMATION: This document announces that, on February 5, 2015, OMB approved the information collection requirements contained in the Commission's Second Report and Order, FCC 13-6, published at 78 FR 15615, March 12, 2013. The OMB Control Number is 3060-1156. The Commission publishes this document as an announcement of the effective date of the requirements. If you have any comments on the burden estimates listed below, or how the Commission can improve the collections and reduce any burdens caused thereby, please contact Cathy Williams, Federal Communications Commission, Room 1-C823, 445 12th Street SW., Washington, DC 20554. Please include the OMB Control Number, 3060-1165, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on February 5, 2015, for the new information collection requirements contained in FCC 13-6.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1156.

The foregoing notice is required by the Paperwork Reduction Act of 1995, Public Law 104-13, October 1, 1995, and 44 U.S.C. 3507.

The total annual reporting burdens and costs for the respondents are as follows:

OMB Control Number: 3060-1156.

OMB Approval Date: February 5, 2015.

OMB Expiration Date: February 28, 2018.

Title: 47 CFR 43.62 Annual Reporting Requirements for U.S. Providers of International Services and Circuits.

Form Number: N/A.

Respondents: Business or other for-profit entities.

Number of Respondents and Responses: 2,328 respondents; 2,328 responses.

Estimated Time per Response: 2-151 hours.

Frequency of Response: Annual reporting requirement.

Obligation to Respond: Required to obtain or retain benefits. The statutory authority for this information collection is contained under Sections 1, 4(i)-4(j), 11, 201-205, 211, 214, 219, 220, 303(r), 309 and 403 of the Communications Act of 1934, as amended, 47 U.S.C. 151, 154(i)-154(j), 161, 201-205, 211, 214, 219-220, 303(r), 309, 403.

Total Annual Burden: 14,606 hours.

Total Annual Cost: $2,400.

Privacy Act Impact Assessment: No impact(s).

Nature and Extent of Confidentiality: In general, there is no need for confidentiality with this collection of information. The Commission, however, will allow filing entities to seek confidential treatment of their data.

Needs and Uses: The Federal Communications Commission (Commission) received approval from the Office of Management and Budget (OMB) for a revision of OMB Control No. 3060-1156. The purpose of the revision was to obtain OMB approval of the annual reporting requirements stipulated under 47 CFR 43.62 which requires that entities providing international services file annual circuit capacity reports and annual traffic and revenue reports, in a format set out in a Filing Manual.

Federal Communications Commission.
Marlene H. Dortch,
Secretary, Office of the Secretary, Office of the Managing Director.

[FR Doc. 2015-02853 Filed 2-10-15; 8:45 am]

BILLING CODE 6712-01-P